DEPARTMENT OF COMMERCE

National Institute of Standards and Technology

Announcement of Public Meetings To Gather Input on the Next Generation of the Manufacturing Extension Partnership (MEP) Program and the Recompetition of MEP Centers

AGENCY: National Institute of Standards and Technology, Commerce.

ACTION: Notice of meeting.

SUMMARY: The National Institute of Standards and Technology (NIST) announces a series of public meetings intended to gather input and comments on the Next Generation of the Manufacturing Extension Partnership (MEP) program and the recompetition of MEP centers. The National Academy of Public Administration (NAPA) has recently released a report which evaluates various alternate business models on the MEP program and provides seven recommendations for its improvement. One of the recommendations states the need to create a strategic plan, which articulates the “next generation of MEP.” In order to gather input on this strategic plan, respond to the recommendations incorporated in the report and gather information regarding the MEP recompetition process, NIST MEP will be holding a series of regional roundtables and web casts to solicit public comment. There will be 8 regional meetings, as well as 3 web casts. Interested parties need to register via the internet for the meeting or web cast they wish to attend, and for those parties unable or unwilling to attend one of the public forums, they can submit comments on-line at http://www.mep.nist.gov/competition/intro.htm.

DATES: Meetings will be held as follows: Tuesday, July 13, 2004, 1 p.m. to 5 p.m., Philadelphia, PA; Monday, July 19, 2004, 1 p.m. to 5 p.m., Cleveland, OH; Tuesday, July 20, 2004, 1 p.m. to 5 p.m., Detroit, MI; Wednesday, July 21, 2004, 1 p.m. to 5 p.m., Minneapolis, MN; Monday, July 26, 2004, 1 p.m. to 5 p.m., Orlando, FL; Tuesday, July 27, 2004, 1 p.m. to 5 p.m., Dallas, TX; Wednesday, July 28, 2004, 1 p.m. to 5 p.m., Los Angeles, CA; Monday, August 2, 2004, 1 p.m. to 5 p.m., Washington, DC.

Web casts will be held as follows: Wednesday, July 14, 2004, 1 p.m. to 5 p.m.; Friday, July 23, 2004, 1 p.m. to 5 p.m.; Tuesday, August 3, 2004, 1 p.m. to 5 p.m.

ADDRESSES: The meetings will be held in the following locations:

Tuesday, July 13, 2004, 1 p.m. to 5 p.m.

Wyndham Franklin Plaza Hotel, 17th and Race St, Philadelphia, PA 19103.

Monday, July 19, 2004, 1 p.m. to 5 p.m.

Marriott Cleveland Downtown at Key Center, 127 Public Square, Cleveland, OH 44114.

Tuesday, July 20, 2004, 1 p.m. to 5 p.m.

Marriott Detroit at the Renaissance Center, Renaissance Center, Detroit, MI 48243.

Wednesday, July 21, 2004, 1 p.m. to 5 p.m.

Marriott Minneapolis City Center, 30 South 7th Street, Minneapolis, MN, 55402.

Monday, July 26, 2004, 1 p.m. to 5 p.m.

Marriott Orlando Airport, 7499 Augusta National Drive, Orlando, FL 32822.

Tuesday, July 28, 2004, 1 p.m. to 5 p.m.

Hyatt Regency DFW, Inside DFW International Airport, DFW Airport, TX 75261.

Wednesday, July 28, 2004, 1 p.m. to 5 p.m.

Renaissance Los Angeles Hotel, 9620 Airport Boulevard, Los Angeles CA 90045.

Thursday, August 5, 2004, 1 p.m. to 5 p.m.

National Association of Manufacturers, 1331 Pennsylvania Ave., NW, Suite 600, Washington, DC 20004.

FOR FURTHER INFORMATION CONTACT: Susan Hayduk by e-mail at susan.hayduk@nist.gov or by telephone at (301) 975-5020.

Dated: June 24, 2004.
Hratch G. Semerjian,
Acting Director.

[FR Doc. 04-14949 Filed 6-30-04; 8:45 am]

BILLING CODE 3510-13-P